DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, FHWA and the Advisory Council on Historic Preservation (ACHP).

SUMMARY: The FHWA, on behalf of Caltrans, is issuing this notice to announce actions taken by Caltrans, that are final within the meaning of 23 U.S.C. 139(l)(1). The actions relate to a proposed highway project, the Fresno Fulton Mall Reconstruction Project, located on the pedestrian mall segments of Fulton, Merced, Mariposa and Kern Streets in the City of Fresno in the County Fresno, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before October 27, 2014. If the Federal law that authorizes judicial review of a claim provides a time period of less than 150 days for filing such claim, then that shorter time period still applies.

FOR FURTHER INFORMATION CONTACT: Kirsten Helton, Senior Environmental Planner, Caltrans, 855 M Street, Suite 200, Fresno, CA 93721, 559-445-6461 between the hours of 8:00 a.m. and 5:00 p.m. weekdays, or email at Kirsten.Helton@dot.ca.gov.

SUPPLEMENTARY INFORMATION: Effective July 1, 2007, the FHWA assigned, and Caltrans assumed, environmental responsibilities for this project pursuant to 23 U.S.C. 327. Notice is hereby given that the Caltrans has taken final agency actions subject to 23 U.S.C. 139(l)(1) by issuing licenses, permits, and approvals for the following highway project in the State of California: The Fulton Mall Reconstruction Project [Federal ID# TCSPL-5060(263)] is located in the Downtown area of the city of Fresno on the Fulton Mall and includes the pedestrian mall segments of Fulton, Merced, Mariposa, and Kern Streets, which comprise eleven linear blocks that were open to traffic prior to 1964 but now do not allow public vehicle access. The project proposes to reconstruct the Fulton Mall as a “complete streets” project by reintroducing vehicle traffic lanes to the existing pedestrian mall. The total length of the new roadways would be 0.74 mile. The actions by the Federal agencies, and the laws under which such actions were taken, are described in the Environmental Assessment (EA)/Finding of No Significant Impact (FONSI) for the project, approved on May 21, 2014, and in other documents in the FHWA project records. The EA/FONSI, and other project records are available by contacting Caltrans at the addresses provided above. The Caltrans EA/FONSI can be viewed and downloaded from the project Web site at http://www.dot.ca.gov/dist6.

This notice applies to all Federal agency decisions as of the issuance date of this notice and all laws under which such actions were taken, including but not limited to:

1. General: National Environmental Policy Act (NEPA) [42 U.S.C. 4321-4335].

2. Land: Section 4(f) of the Department of Transportation Act of 1966 [23 U.S.C. 138 and 49 U.S.C 303]; Section 6(f) of the Land and Water Conservation Act [36 U.S.C 59 Section 6(f)(3)].

3. Historic and Cultural Resources: Section 106 of the National Historic Preservation Act of 1966, as amended [16 U.S.C. 470(f) et seq.]; Archeological Resources Protection Act of 1977 [16 U.S.C. 470(aa)-470(ll)]; Archaeological and Historic Preservation Act [16 U.S.C. 469-469(c)]; Native American Grave Protection and Repatriation Act (NAGPRA) [25 U.S.C. 3001-3013].

4. Air: Clean Air Act [23 U.S.C. 109(i) and 42 U.S.C 7521(a)].

5. Water: Clean Water Act [33 U.S.C. 1344].

6. Federal Endangered Species Act [16 U.S.C. 1531-1543]; Migratory Bird Treaty Act [16 U.S.C. 760c-760g].

7. Social and Economic: NEPA implementation [23 U.S.C 109(h); Civil Rights Act of 1964 [42 U.S.C. 200(d)(-200(d)(1)].

8. Executive Orders: E.O. 13112 Invasive Species; E.O. 12898 Federal Actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on: May 23, 2014.
Jermaine Hannon,
Director, Program Development, Federal Highway Administration, Sacramento, California.

[FR Doc. 2014-12580 Filed 5-29-14; 8:45 am]

BILLING CODE 4910-RY-P